DEPARTMENT OF HEALTH AND HUMAN SERVICES

Administration for Children and Families

Proposed Information Collection Activity; Comment Request

Proposed Projects

Title: Grant Application Data Summary (GADS) Form.

OMB No.: New Collection.

Description: The Grant Application Data Summary (GADS) collects information from applicants seeking grants from the Administration for Native Americans (ANA). ANA awards annual grants in three competitive areas. Previously, ANA collected information using a separate form for each competitive area (OMB No. 0970-0261, OMB No. 0970-0263 and OMB No. 0970-0265). ANA has consolidated the three previous information collections into the single GADS instrument.

Respondents: Tribal Governments, Native Non-profits, Tribal Colleges and Universities.

Annual Burden Estimates
Instrument | Number of respondents | Number of responses per respondent | Average burden hours per response | Total burden hours
Grant Application Summary | 500 | 1 | .5 | 250

Estimated Total Annual Burden Hours: 250.

In compliance with the requirements of Section 3506(c)(2)(A) of the Paperwork Reduction Act of 1995, the Administration for Children and Families is soliciting public comment on the specific aspects of the information collection described above. Copies of the proposed collection of information can be obtained and comments may be forwarded by writing to the Administrator for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 13, 2007.
Robert Sargis,
Reports Clearance Officer.

[FR Doc. 07-776 Filed 2-20-07; 8:45 am]

BILLING CODE 4184-01-M